DEPARTMENT OF ENERGY

Federal Energy Regulatory Commission

[Project No. 15031-000]

Nevada PSH Energy Storage LLC; Notice of Preliminary Permit Application Accepted for Filing and Soliciting Comments, Motions To Intervene, and Competing Applications

On April 27, 2020, the Nevada PSH Energy Storage LLC, filed an application for a preliminary permit, and resubmitted on June 18, 2020, pursuant to section 4(f) of the Federal Power Act (FPA), proposing to study the feasibility of the Ruby Hill Pumped Hydro Energy Storage Project to be located in Eureka, Nevada. The sole purpose of a preliminary permit, if issued, is to grant the permit holder priority to file a license application during the permit term. A preliminary permit does not authorize the permit holder to perform any land-disturbing activities or otherwise enter upon lands or waters owned by others without the owners' express permission.

The proposed project would be located at the existing Ruby Hill Mine an existing open pit mine with the pump storage utilizing and existing deep open pit mine for the lower reservoir and an earthen dam for the upper reservoir. The project consist of the following new facilities: (1) A 3,474-foot-long, 30-meter-high earthen dam (Upper Reservoir) with a surface area of 20 acres; and a total storage capacity of 1,941 acre-feet at a normal maximum surface elevation of 1,231 feet average mean sea level (msl); (2) an existing open pit mine (Lower Reservoir) that will not require a dam with a maximum surface elevation of 1,707 average msl, and a storage capacity of 2,000 acre-feet; (3) two 4,760-foot-long, 10-foot-diameter steel penstocks; (4) an underground powerhouse housing four 50-megawatt pump turbine units at an approximate elevation of 1,670 msl, the final dimension is to be determined; (5) a single 15-foot-diameter low pressure draft tube that will extend approximately 80 feet from the powerhouse to the Lower Reservoir; (6) the initial fill water would come from water purchased from existing water right holders, with an estimated 100-gallons per minute (gpm) from Eureka wastewater treatment plant to be used as a make-up water source; (7) a 200-mega volt amp substation for converting the 20-kilovolt (kV), generator/motor voltage to 230- kV, a new 230- kV, 13,000-foot-long transmission lines that connect the new substation to the existing 230-kV transmission lines at Machacek substation, and (8) appurtenant facilities. The estimated annual power generation at the Ruby Hill Pumped Hydro Energy Storage Project would be 730 gigawatt-hours.

Applicant Contact: Mr. Michael Werner, Managing Director, Nevada PSH Energy Storage LLC. 7425 East Columbia Drive, Spokane, Washington 99212, michaelawerner@comcast.net.

FERC Contact: Ousmane Sidibe; Phone: (202) 502-6245.

Deadline for filing comments, motions to intervene, competing applications (without notices of intent), or notices of intent to file competing applications: 60 days from the issuance of this notice. Competing applications and notices of intent must meet the requirements of 18 CFR 4.36.

The Commission strongly encourages electronic filing. Please file comments, motions to intervene, notices of intent, and competing applications using the Commission's eFiling system at https://ferconline.ferc.gov/FERCOnline.aspx. Commenters can submit brief comments up to 6,000 characters, without prior registration, using the eComment system at https://ferconline.ferc.gov/QuickComment.aspx. You must include your name and contact information at the end of your comments. For assistance, please contact FERC Online Support at FERCOnlineSupport@ferc.gov, (866) 208-3676 (toll free), or (202) 502-8659 (TTY). In lieu of electronic filing, you may submit a paper copy. Submissions sent via the U.S. Postal Service must be addressed to: Kimberly D. Bose, Secretary, Federal Energy Regulatory Commission, 888 First Street NE, Room 1A, Washington, DC 20426. Submissions sent via any other carrier must be addressed to: Kimberly D. Bose, Secretary, Federal Energy Regulatory Commission, 12225 Wilkins Avenue, Rockville, Maryland 20852.

In addition to publishing the full text of this document in the Federal Register, more information about this project, including a copy of the application, can be viewed or printed on the “eLibrary” link of Commission's website at https://www.ferc.gov/ferc-online/elibrary/overview. Enter the docket number (P-15031) in the docket number field to access the document. For assistance, contact FERC Online Support.

Dated: September 17, 2020.
Kimberly D. Bose,
Secretary.

[FR Doc. 2020-20981 Filed 9-22-20; 8:45 am]

BILLING CODE 6717-01-P